DEPARTMENT OF ENERGY

Federal Energy Regulatory Commission

[Project No. 14992-000]

Notice of Preliminary Permit Application Accepted for Filing and Soliciting Comments, Motions To Intervene, and Competing Applications; Pumped Hydro Storage, LLC

On May 8, 2019, Pumped Hydro Storage, LLC, filed an application for a preliminary permit, pursuant to section 4(f) of the Federal Power Act (FPA), proposing to study the feasibility of a pumped storage project in Coconino County, Arizona. On August 1, 2019, the applicant filed a revised application for the project to address Commission staff's June 19, 2019 comments. The sole purpose of a preliminary permit, if issued, is to grant the permit holder priority to file a license application during the permit term. A preliminary permit does not authorize the permit holder to perform any land-disturbing activities or otherwise enter upon lands or waters owned by others without the owners' express permission.

The proposed Navajo Nation Salt Trail Canyon Pumped Storage Project would consist of the following: (1) A new 240-foot-high, 500-foot-long upper dam and reservoir; (2) a new 140-foot-high, 1,000-foot-long lower dam and reservoir; (3) six 250- megawatt, turbine-generator units, for a total installed capacity of 1,500 megawatts; (4) a new 20-mile-long, 500-kilovolt transmission line from the powerhouse to the existing Moenkopi switchyard; and (5) appurtenant facilities. The proposed project would have an average annual generation of 3,300 gigawatt-hours.

Applicant Contact: Steve Irwin, Pumped Hydro Storage, LLC, 6514 S 41st Lane, Phoenix, AZ 85041; phone: (602) 696-3608.

FERC Contact: Tim Konnert; phone: (202) 502-6359.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE, Washington, DC 20426. The first page of any filing should include docket number P-14992-000.

More information about this project, including a copy of the application, can be viewed or printed on the “eLibrary” link of the Commission's website at http://www.ferc.gov/docs-filing/elibrary.asp. Enter the docket number (P-14992) in the docket number field to access the document. For assistance, contact FERC Online Support.

Dated: October 2, 2019.
Kimberly D. Bose,
Secretary.

[FR Doc. 2019-22021 Filed 10-8-19; 8:45 am]

BILLING CODE 6717-01-P